NATIONAL AERONAUTICS AND SPACE ADMINISTRATION

[Notice 00-033]

NASA Advisory Council, Life and Microgravity Sciences and Applications Advisory Committee, Aerospace Medicine and Occupational Health Advisory Subcommittee; Meeting

AGENCY: National Aeronautics and Space Administration.

ACTION: Notice of meeting.

SUMMARY: In accordance with the Federal Advisory Committee Act, Public Law 92-463, as amended, the National Aeronautics and Space Administration announces a meeting of the NASA Advisory Council, Life and Microgravity Sciences and Applications Advisory Committee, Aerospace Medicine and Occupational Health Advisory Subcommittee.

DATES: Wednesday, May 3, 2000, 8 a.m. to 5 p.m.

ADDRESSES: National Aeronautics and Space Administration Headquarters, 300 E Street, SW, MIC-5A, Room 5H46, Washington, DC 20546.

FOR FURTHER INFORMATION CONTACT: Dr. Sam L. Pool, Code SA, Lyndon B. Johnson Space Center, National Aeronautics and Space Administration, Houston, TX 77058, 281-483-7109.

SUPPLEMENTARY INFORMATION: The meeting will be open to the public up to the seating capacity of the room. The agenda for the meeting is as follows:

—Chairman's Perspective

—Status of Findings and Recommendations

—Space Medicine Overview and Budget Status

—Current Issues in Space Medicine Issues

—Multilateral Medical Operations Panel Report

—Multilateral Space Medicine Board Report

—Physician Comparability

—Neurolab Update

—OLMSA Policy on Astronaut Health Care & Biomedical Research

—Pillars of Biology & Augmentation Update

—Progress, Instutute of Medicine Review

—Occupational Health Update

—Preparation and Review of Committee Findings and Recommendations

It is imperative that the meeting be held on this date to accommodate the scheduling priorities of the key participants. Visitors will be requested to sign a visitor's register.

Dated: April 10, 2000.
Matthew M. Crouch,
Advisory Committee Management Officer, National Aeronautics and Space Administration.

[FR Doc. 00-9260 Filed 4-13-00; 8:45 am]

BILLING CODE 7510-01-U